FEDERAL COMMUNICATIONS COMMISSION

47 CFR Part 73

[DA 01-1390; MM Docket No. 01-6; RM-10009]

Radio Broadcasting Services; Steubenville, OH and Burgettstown, PA

AGENCY: Federal Communications Commission.

ACTION: Final rule.

SUMMARY: This document reallots Channel 278B from Steubenville, Ohio, to Burgettstown, Pennsylvania, and modifies the license for Station WOGH(FM) to specify operation on Channel 278B at Burgettstown, Pennsylvania, in response to a petition filed by Keymarket Licenses, LLC. See 66 FR 7872, January 26, 2001. The coordinates for Channel 278B at Burgettstown are 40-20-32 and 80-37-14.

DATES: Effective July 23, 2001.

FOR FURTHER INFORMATION CONTACT: Kathleen Scheuerle, Mass Media Bureau, (202) 418-2180.

SUPPLEMENTARY INFORMATION: This is a summary of the Commission's Report and Order, MM Docket No. 01-6, adopted May 30, 2001, and released June 8, 2001. The full text of this Commission decision is available for inspection and copying during normal business hours in the Commission's Reference Center, 445 12th Street, SW., Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Ohio, is amended by removing Steubenville, Channel 278B.

3. Section 73.202(b), the Table of FM Allotments under Pennsylvania, is amended by adding Burgettstown, Channel 278B.

Federal Communications Commission.
John A. Karousos,
Chief, Allocations Branch, Policy and Rules Division, Mass Media Bureau.

[FR Doc. 01-15977 Filed 6-25-01; 8:45 am]

BILLING CODE 6712-01-P